DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons whose property and interests in property have been unblocked and have been removed from the list of Specially Designated Nationals and Blocked Persons.

DATES: See Supplementary Information section for effective dates.

FOR FURTHER INFORMATION CONTACT: OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On April 22, 2022, OFAC determined that the property and interests in property subject to U.S. jurisdiction of the following persons are unblocked and they have been removed from the SDN List.

Individuals

1. BOLIVAR ZAPATA, Gustavo; DOB 23 Dec 1976; POB Pereira, Risaralda, Colombia; Cedula No. 18513577 (Colombia) (individual) [SDNTK].

2. FLORES CHAVEZ, Kevin Sebastian, Calle Tchaikovsky 474, Col. Arcos de Guadalupe, Zapopan, Jalisco, Mexico; DOB 01 Mar 1995; POB Jalisco, Mexico; citizen Mexico; Gender Male; R.F.C. FOCK950301E94 (Mexico); C.U.R.P. FOCK950301HJCLHV00 (Mexico) (individual) [SDNTK] (Linked To: FLORES DRUG TRAFFICKING ORGANIZATION; Linked To: BOUNGALOWS VILLA AZUL, S.A. DE C.V.).

3. MORA RICARDO, Daniel Alberto, c/o SOCIEDAD SUPERDEPORTES LTDA., Bogota, Colombia; c/o ABS HEALTH CLUB SA, Bogota, Colombia; Miami, FL, United States; DOB 08 Jan 1965; nationality Colombia; citizen Colombia; Cedula No. 80408253 (Colombia); SSN 027-68-4733 (United States); Driver's License No. M600161650080 (United States) issued 07 Apr 2006 expires 08 Jan 2011 (individual) [SDNT].

4. PEREZ SANTORO, Roberto Javier (a.k.a. PEREZ SANTORO, Javier), Buenos Aires, Argentina; DOB 10 Sep 1983; POB Buenos Aires, Argentina; nationality Argentina; Gender Male; Passport AAB523976 (Argentina); D.N.I. 30312556 (Argentina) (individual) [SDNTK] (Linked To: SMILE TECHNOLOGIES S.A.; Linked To: SMILE PROPERTY & TRAVEL LTD; Linked To: SMILEWALLET S.A.S.; Linked To: SMILEWALLET B.V.).

5. ZAMBADA NIEBLA, Vicente (a.k.a. SOTELO GUZMAN, Vicente; a.k.a. ZAMBADA NIEBLA, Jesus Vicente; a.k.a. ZAMBADA NIEBLA, Vincente; a.k.a. “EL MAYITO”), c/o NUEVA INDUSTRIA DE GANADEROS DE CULIACAN S.A. DE C.V., Culiacan, Sinaloa, Mexico; c/o ESTABLO PUERTO RICO S.A. DE C.V., Culiacan, Sinaloa, Mexico; 4852 Palma Cocotera, Colonia Las Palmas, Culiacan, Sinaloa, Mexico; Calle Ciudad de Hermosillo #1168, Fraccionamiento Las Quintas, Culiacan, Sinaloa 80060, Mexico; DOB 24 Mar 1975; POB Sinaloa, Mexico; nationality Mexico; citizen Mexico; Passport 97040021871 (Mexico); R.F.C. ZANV-750324-NY5 (Mexico) (individual) [SDNTK].

6. ZEVALLOS GONZALES DE ARREDONDO, Maria del Rosario, c/o AVIANDINA S.A.C., Lima, Peru; c/o PERUVIAN PRECIOUS METALS S.A.C., Lima, Peru; Aldabas MZ. 53, LT. 25, Las Gardenias, Lima, Peru; DOB 26 Jun 1956; LE Number 09138069 (Peru) (individual) [SDNTK].

Entities

1. ABS HEALTH CLUB S.A., Carrera 10 No. 93A-27, Bogota, Colombia; NIT #830121474-8 (Colombia) [SDNT].

2. MULTISERVICIOS JEVIZ S.A. DE C.V. (a.k.a. JEVIZ), Carretera a El Dorado #2501, Colonia Campo El Diez, Culiacan, Sinaloa 80155, Mexico [SDNTK].

Dated: April 22, 2022.
Gregory T. Gatjanis,
Associate Director, Office of Global Targeting, Office of Foreign Assets Control, U.S. Department of the Treasury.

[FR Doc. 2022-09009 Filed 4-27-22; 8:45 am]

BILLING CODE P